FEDERAL COMMUNICATIONS COMMISSION

Sunshine Act Meeting

October 4, 2001.

Open Commission Meeting, Thursday, October 11, 2001

The Federal Communications Commission will hold an Open Meeting on the subjects listed below on Thursday, October 11, 2001, which is scheduled to commence at 9:30 a.m. in Room TW-C305, at 445 12th Street SW., Washington, DC.

Item No. | Bureau | Subject
1 | Common Carrier | Title: Multi-Association Group (MAG) Plan for Regulation of Interstate Services of Non-Price Cap Incumbent Local Exchange Carriers and Interexchange Carriers (CC Docket No. 00-256); Federal-State Joint Board on Universal Service (CC Docket No. 96-45); Access Charge Reform for Incumbent Local Exchange Carriers Subject to Rate-of-Return Regulation (CC Docket No. 98-77); and Prescribing the Authorized Rate of Return for Interstate Services of Local Exchange Carriers (CC Docket No. 98-166).
|  | Summary: The Commission will consider a Second Report and Order and Further Notice of Rule Making in CC Docket No. 00-256, a Fifteenth Report and Order in CC Docket No. 96-45, and a Report and Order in CC Docket Nos. 98-77 and 98-166 concerning interstate access charge and universal service reform for incumbent local exchange carriers subject to rate-of-return regulation, alternative forms of regulation for such carriers, pricing flexibility, and the “all-or-nothing” rule.
2 | Common Carrier | Title: 2000 Biennial Regulatory Review—Comprehensive Review of the Accounting Requirements and ARMIS Reporting Requirements for Incumbent Local Exchange Carriers: Phase 2 (CC Docket No. 00-199); Amendment to the Uniform System of Accounts for Interconnection (CC Docket No. 97-212); Jurisdictional Separations Reform and Referral to the Federal-State Joint Board (CC Docket No. 80-286); and Local Competition and Broadband Reporting (CC Docket No. 99-301).
|  | Summary: The Commission will consider a Report and Order in CC Docket Nos. 00-199, 97-212, and 80-286 and a Further Notice of Proposed Rulemaking in CC Docket Nos. 00-199, 99-301 and 80-286 concerning streamlining and modifying the accounting rules and reporting requirements for incumbent local exchange carriers.
3 | Mass Media | Title: Ancillary or Supplementary Use of Digital Television Capacity by Noncommercial Licensees (MM Docket No. 98-203).
|  | Summary: The Commission will consider a Report and Order concerning issues related to the ability of noncommercial educational (NCE) television stations to use excess capacity on their digital television (DTV) channels for commercial purposes.
4 | Cable Services | Title: Implementation of the Cable Television Consumer Protection and Competition Act of 1992; Development of Competition and Diversity in Video Programming Distribution: Section 628(c)(5) of the Communications Act: Sunset of Exclusive Contract Prohibition.
|  | Summary: The Commission will consider a Notice of Proposed Rule Making concerning the exclusivity provisions of the program access rules.
5 | International and Consumer Information Common Carrier | Title: International Calling Plans.
|  | Summary: The International and Consumer Information Bureaus will make a joint presentation on the status of international calling prices and an initiative to educate consumers about lower-priced international calling options.

Additional information concerning this meeting may be obtained from Maureen Peratino or David Fiske, Office of Media Relations, telephone number (202) 418-0500; TTY 1-888-835-5322.

Copies of materials adopted at this meeting can be purchased from the FCC's duplicating contractor, Qualex International at (202) 863-2893; fax (202) 863-2898; or TTY (202) 863-2897.

These copies are available in paper format and alternative media, including large print/type; digital disk; and audio tape. Qualex International may be reached by e-mail at qualexint@aol.com

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-25571 Filed 10-5-01; 2:19 pm]

BILLING CODE 6712-01-M